DEPARTMENT OF THE INTERIOR

National Park Service

[NPS-WASO-NAGPRA-19847; PPWOCRADN0-PCU00RP14.R50000]

Notice of Inventory Completion: State Historical Society of North Dakota, Bismarck, ND

AGENCY: National Park Service, Interior.

ACTION: Notice.

SUMMARY: The State Historical Society of North Dakota has completed an inventory of human remains, and in consultation with the appropriate Indian tribes or Native Hawaiian organizations, has determined that there is no cultural affiliation between the human remains and any present-day Indian tribes or Native Hawaiian organizations. Representatives of any Indian tribe or Native Hawaiian organization not identified in this notice that wish to request transfer of control of these human remains should submit a written request to the State Historical Society of North Dakota. If no additional requestors come forward, transfer of control of the human remains to the Indian tribes or Native Hawaiian organizations stated in this notice may proceed.

DATES: Representatives of any Indian tribe or Native Hawaiian organization not identified in this notice that wish to request transfer of control of these human remains should submit a written request with information in support of the request to the State Historical Society of North Dakota at the address in this notice by February 8, 2016.

ADDRESSES: Wendi Murray, State Historical Society of North Dakota, 612 East Boulevard Avenue, Bismarck, ND 58505, telephone (701) 328-3506, email wmurray@nd.gov.

SUPPLEMENTARY INFORMATION: Notice is here given in accordance with the Native American Graves Protection and Repatriation Act (NAGPRA), 25 U.S.C. 3003, of the completion of an inventory of human remains under the control of the State Historical Society of North Dakota, Bismarck, ND. The human remains were removed from Camp Grafton, Ramsey County, ND.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the State Historical Society of North Dakota professional staff in consultation with representatives of the Assiniboine and Sioux Tribes of the Fort Peck Indian Reservation, Montana; Crow Tribe of Montana; Lower Sioux Indian Community in the State of Minnesota; Northern Cheyenne Tribe of the Northern Cheyenne Indian Reservation, Montana; Sisseton-Wahpeton Oyate of the Lake Traverse Reservation, South Dakota; Spirit Lake Tribe, North Dakota; Standing Rock Sioux Tribe of North & South Dakota; Three Affiliated Tribes of the Fort Berthold Reservation, North Dakota; and the Turtle Mountain Band of Chippewa Indians of North Dakota.

History and Description of the Remains

In 2003, human remains representing, at minimum, one individual, were removed from site 32RY147 on state land at Camp Grafton in Ramsey County, ND. The human remains (a toe bone) were recovered during a testing project undertaken by the Department of Anthropology, University of North Dakota for the North Dakota Army National Guard. The site, described in the final report as an artifact scatter, is located in the north-central portion of Camp Grafton North, Ramsey County, ND, on top of a densely forested hill. No known individuals were identified. No associated funerary objects are present.

No artifacts, burial mounds, or funerary structures suggesting the presence of a burial at or near the location were reported to exist at the site. The presence of ceramics and the recovery of a Besant-like projectile point fragment at the site suggest that it was probably occupied during the Woodland or Early Plains Village period (500 B.C.-A.D. 1300).

Determinations Made by the State Historical Society of North Dakota

Officials of the State Historical Society of North Dakota have determined that:

• Pursuant to 25 U.S.C. 3001(9), the human remain described in this notice is Native American based on the context of its recovery. They were recovered from a prehistoric Native American site, which also generated ceramic, lithic, and other artifacts consistent with prehistoric Native American occupation.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Sisseton-Wahpeton Oyate of the Lake Traverse Reservation, South Dakota, and the Spirit Lake Tribe, North Dakota.

• Treaties, Acts of Congress, or Executive Orders, indicate that the land from which the Native American human remains were removed is the aboriginal land of the Sisseton-Wahpeton Oyate of the Lake Traverse Reservation, South Dakota and the Spirit Lake Tribe, North Dakota.

• Pursuant to 43 CFR 10.11(c)(1), the disposition of the human remains may be to the Sisseton-Wahpeton Oyate of the Lake Traverse Reservation, South Dakota, and the Spirit Lake Tribe, North Dakota.

Additional Requestors and Disposition

Representatives of any Indian tribe or Native Hawaiian organization not identified in this notice that wish to request transfer of control of these human remains should submit a written request with information in support of the request to Wendi Murray, State Historical Society of North Dakota, 612 East Boulevard Avenue, Bismarck, ND 58505, telephone (701) 328-3506, email wmurray@nd.gov, by February 8, 2016. After that date, if no additional requestors have come forward, transfer of control of the human remains to the Sisseton-Wahpeton Oyate of the Lake Traverse Reservation, South Dakota, and the Spirit Lake Tribe, North Dakota, may proceed.

The State Historical Society of North Dakota is responsible for notifying the the Sisseton-Wahpeton Oyate of the Lake Traverse Reservation, South Dakota, and the Spirit Lake Tribe, North Dakota that this notice has been published.

Dated: November 23, 2015.
Amberleigh Malone,
Acting Manager, National NAGPRA Program.

[FR Doc. 2016-00074 Filed 1-6-16; 8:45 am]

BILLING CODE 4312-50-P